DEPARTMENT OF ENERGY

Energy Savings Performance Contract (ESPC) Process Improvement Working Group Meeting

AGENCY: Department of Energy (DOE), Office of Energy Efficiency and Renewable Energy.

ACTION: Notice of public meeting.

SUMMARY: This notice announces a public meeting of the Federal Energy Management Program (FEMP) within the Office of Energy Efficiency and Renewable Energy on the process for using energy savings performance contracts at DOE sites.

DATES: The public meeting will be held Wednesday, August 26, 2009, 9 a.m. until 12 Noon.

ADDRESSES: Department of Energy, Room GJ-015, 1000 Independence Avenue, SW., Washington, DC 20585.

FOR FURTHER INFORMATION CONTACT: Katy Christiansen, Office of Energy Efficiency and Renewable Energy, U.S. Department of Energy, 1000 Independence Avenue, SW., Washington, DC 20585; (202) 586-7930, katherine.christiansen@ee.doe.gov.

SUPPLEMENTARY INFORMATION: Purpose of the Meeting: The purpose of the meeting is to provide an opportunity for the public to present comment on the current process for implementing energy savings performance contracts (ESPC) at DOE sites. Information on the current ESPC program at DOE can be found at http://www1.eere.energy.gov/femp/financing/espcs.html. DOE is considering changes for the purpose of reducing cycle times in the development and timely execution of ESPCs.

Tentative Agenda: Agenda will include the following:

• Brief background on ESPCs.

• Presentation on existing processes and cycle times.

• Outline of optimum scenario and possible areas for improvement.

• Comment period.

The meeting is open to the public. DOE invites participation by all interested parties.

For information on:

• The agenda,

• Facilities or services for individuals with disabilities,

• Requests for special assistance,

• Pre-clearance for entrance into the DOE headquarters building,

• Pre-clearance for foreign nationals (advance clearance required) and

• Requests to present or speak.

Contact Katherine.christiansen@ee.doe.gov, by 4 p.m. EDT, August 21, 2009.

Minutes: DOE will designate a DOE official to preside at the public meeting. The meeting will not be a judicial or evidentiary-type public hearing. A stenographer will be present to record and transcribe the proceedings. The minutes of the meeting will be available for public review and copying at the Freedom of Information Public Reading Room, Room 1E-190, Forrestal Building, 1000 Independence Avenue, SW., Washington, DC, between 9 a.m. and 4 p.m., Monday through Friday, except Federal holidays.

Public Participation: DOE reserves the right to schedule the order of presentations and to establish the procedures governing the conduct of the public meeting. After the public meeting, interested parties may submit further comments about the proceedings. The public meeting will be conducted in an informal, conference style. Each participant will be allowed to make a prepared general statement (within time limits determined by DOE) before discussion of a particular topic. DOE will permit other participants to comment briefly on any general statements. At the end of all prepared statements on a topic, DOE will permit participants to clarify their statements briefly and comment on statements made by others. DOE representatives may also ask questions of participants concerning other matters relevant to ESPCs and may accept additional comments or questions from those attending, as time permits.

Issued in Washington, DC on August 17, 2009.
Richard G. Kidd IV,
FEMP Program Manager.

[FR Doc. E9-20202 Filed 8-20-09; 8:45 am]

BILLING CODE 6450-01-P